DEPARTMENT OF VETERANS AFFAIRS

Privacy Act of 1974; New Routine Use Statement Amendment of System; Notice

AGENCY: Department of Veterans Affairs.

ACTION: Notice; New routine use.

SUMMARY: As required by the Privacy Act of 1974, 5 U.S.C. 552a(e), Notice is hereby given that the Department of Veterans Affairs (VA) is adding a new routine use statement to a VA system of records entitled “Loan Guaranty Fee Personnel and Program Participant Records—VA (17VA26).” The new routine use will specify that the names of debarred and suspended Loan Guaranty Program participants can be furnished to the General Services Administration for inclusion on the “Lists of Parties Excluded from Federal Procurement or Nonprocurement Programs.”

DATES: Comments must be received on or before August 25, 2004. If no public comment is received during the 30 day review period allowed for public comment, or unless otherwise published in the Federal Register by VA, this routine use is effective August 25, 2004.

ADDRESSES: You may mail or hand-deliver written comments concerning the proposed new routine use to Director, Regulations Management (00REG1), Department of Veterans Affairs, 810 Vermont Avenue, NW., Room 1068, Washington, DC 20420; fax to (202) 273-9026; or email to “VAregulations@mail.va.gov”. All relevant material received before August 25, 2004, will be considered. All comments received will be available for public inspection in the Office of Regulation Policy and Management, Room 1063B, between the hours of 8 a.m. and 4:30 p.m., Monday through Friday (except holidays). Please call (202) 273-9515 for an appointment.

FOR FURTHER INFORMATION CONTACT: Mr. Robert D. Finneran, Assistant Director for Policy and Valuation (262), Loan Guaranty Service, Veterans Benefits Administration, Department of Veterans Affairs, Washington, DC 20420, (202) 273-7368.

SUPPLEMENTARY INFORMATION: To ensure that VA Loan Guaranty Program participants are responsible business entities and individuals, VA has authority under 38 CFR part 44 to debar and suspend those entities and individuals that engage in actions detrimental to the best interests of veterans or the Government as provided in 38 CFR 44.305. In order for other Federal agencies to give effect to VA's debarment and suspension actions VA furnishes to the General Services Administration (GSA) the following information: the names and addresses of debarred or suspended parties, the type of action, the effective date of VA's action, and the term of the debarment or suspension. GSA includes this information on the “Lists of Parties Excluded from Federal Procurement or Nonprocurement Programs,” also known as the Excluded Parties Listing System (EPLS), which it compiles and maintains.

Currently VA furnishes information about debarred or suspended parties to GSA under the authority of routine use number 5 of 17VA26 which provides for release of information about participants suspended from the Loan Guaranty Program to other Federal, State, or local agencies. This new routine use has been developed to more specifically provide for the release of information about debarred and suspended parties to the GSA for inclusion in EPLS.

VA has determined that release of information under the circumstances described above is a necessary and proper use of information in this system of records and that the specific routine use proposed for the transfer of this information is appropriate.

An altered system of records report and a copy of the revised system notice have been sent to the House of Representatives Committee on Government Reform and Oversight, the Senate Committee on Governmental Affairs, and the Office of Management and Budget (OMB) as required by 5 U.S.C. 552a(r) and guidelines issued by OMB (65 FR 77677, December 12, 2000.)

The proposed new routine use number 13 will be added to the system of records entitled “Loan Guaranty Fee Personnel and Program Participant Records—VA”, as published at 40 FR 38095, August 26, 1975, and amended at 52 FR 721, January 8, 1987.

Approved: July 12, 2004.
Anthony J. Principi,
Secretary of Veterans Affairs.

Notice of Amendment to System of Records

The system of records identified as 17VA26 “Loan Guaranty Fee Personnel and Program Participant Records—VA published at “40 FR 38095, August 26, 1975, and amended at 52 FR 721, January 8, 1987, is revised to add a new routine use number 13 as follows:

17VA26

SYSTEM NAME:

Loan Guaranty Fee Personnel and Program Participant Records—VA.

* * * * *

13. The names and addresses of debarred or suspended loan guaranty program participants as well as the effective date and term of the exclusion may be disclosed to the General Services Administration to compile and maintain the “Lists of Parties Excluded from Federal Procurement or Nonprocurement Programs.”

* * * * *

[FR Doc. 04-16987 Filed 7-23-04; 8:45 am]

BILLING CODE 8320-01-P